DEPARTMENT OF ENERGY

Federal Energy Regulatory Commission

[Docket No. OR05-11-000]

Continental Resources, Inc., Complainant, v. Bridger Pipeline, LLC, Respondent; Notice of Complaint

September 23, 2005.

Take notice that on September 19, 2005, Continental Resources, Inc., (Continental) pursuant to Rule 208 of the Commission's Rules of Practice and Procedures, 18 CFR 385.206 and 18 CFR 343.1(a), filed a complaint in this proceeding. Continental states that Bridger Pipeline, LLC (Bridger) has violated and continues to violate sections 1(5), 2, 3(3) and 15 of the Interstate Commerce Act, 49 U.S.C., by charging unjust and unreasonable rates and charges for the interstate transportation of crude oil by pipeline and by including provisions in its tariffs which are unduly discriminatory and preferential.

Continental requests that the Commission: (1) Examine the challenged rates and charges collected by Bridger for transportation of crude oil and the challenged tariff provisions concerning crude oil sulfur restrictions applied to such transportation, (2) determine that Bridger's rates are unjust and unreasonable and that Bridger's challenged tariff provisions regarding crude oil sulfur restrictions are discriminatory and unduly preferential, (3) determine just, reasonable and non-discriminatory rates and tariff terms for Bridger's jurisdictional interstate services, (4) order reparations and/or refunds to Continental, including appropriate interest thereon, for the applicable reparations and refund period, (5) award Continental reasonable attorney's fees and costs; and (6) order such other relief as may be appropriate.

Continental states that it has served a copy of the Complaint on Bridger.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 13, 2005.

Magalie R. Salas,
Secretary.

[FR Doc. E5-5374 Filed 9-30-05; 8:45 am]

BILLING CODE 6717-01-P